DEPARTMENT OF THE INTERIOR

National Park Service

National Register of Historic Places; Notification of Pending Nominations

Nominations for the following properties being considered for listing in the National Register were received by the National Park Service before July 21, 2001. Pursuant to section 60.13 of 36 CFR part 60 written comments concerning the significance of these properties under the National Register criteria for evaluation may be forwarded to the National Register, National Park Service, 1849 C St. NW, NC400, Washington, DC 20240. Written comments should be submitted by October 17, 2001.

Carol D. Shull,
Keeper of the National Register of Historic Places.

ARIZONA

Maricopa County

Lehi School, 2345 No. Home, Mesa, 01000906

Mohave County

Hardyville Cemetery, 1776 AZ 95, Bullhead City, 01000905

Pinal County

Verdugo Homestead Historic District, Address Restricted, Randolph, 01000904

IOWA

Clayton County

American House, 116 Main St., McGregor, 01000913

Clinton County

Dugan's Saloon, 516 Smith St., Grand Mound, 01000908

Farmers and Merchants Savings Bank, 601 Smith St., Grand Mound, 01000909

Grand Mound Town Hall and Waterworks Historic District, 613-615 Clinton St., Grand Mound, 01000910

Johnson County

Englert Theatre, 221 E. Washington St., Iowa City, 01000911

Louisa County

Commercial Hotel, 227 N. Main St., Wapello, 01000912

Polk County

Crane Building, 1440 Walnut, Des Moines, 01000914

MASSACHUSETTS

Bristol County

Barrows, H.F., Manufacturing Company Building, 102 S. Washington St., N. Attleborough, 01000907

Essex County

Georgetown Central School, 1 Library St., Georgetown, 01000915

MISSISSIPPI

De Soto County

Hernando Commercial Street Historic District, Roughly along Commerce St., W of West St. S, Hernando, 01000918

Hernando North Side Historic District, N of Holly Springs St., E of US 51, W of Northview St., on W. Northern St., W. Valley St., Shady Ln. & Holly Springs St, Hernando, 01000916

Hernando South Side (Magnolia) Historic District, Roughly bounded by Oak Grove Rd., Magnolia Dr., W. Center St., and Church St., Hernando, 01000917

Marshall County

Bailey, Dr. Isham G., House, 1577 Early Grove Rd., Lamar, 01000919

Warren County

Hyland Mound Archeological Site, Address Restricted, Vicksburg, 01000920

MONTANA

Lewis and Clark County

Hilger, Joe and Carrie, Ranch, Sleeping Giant Ranch, 20 mi. N of Helena, Helena, 01000922

Stillwater County

Torgrimson Place, West Rosebud Rd., Fishtail, 01000921

NORTH DAKOTA

Ramsey County

Devils Lake Masonic Temple, 403 Sixth St., Devils Lake, 01000923

OREGON

Deschutes County

First Presbyterian Church of Redmond, 641 SE Cascade Ave., Redmond, 01000931

Multnomah County

Hughes, Dr. Herbert H., House, 1229 W. Powell Blvd., Gresham, 01000932

Kenton Commercial Historic District, (Kenton Neighborhood of Portland, Oregon MPS) Roughly along Denver Ave., from N. Willis St. to N. Watts St., Portland, 01000934

McGraw, Donald and Ruth, House, 01845 SW Military Rd., Portland, 01000935

Meier and Frank Delivery Depot, 1417 NW Everett, Portland, 01000936

Van Vleet, Lewis and Elizabeth, House, (Eliot Neighborhood MPS) 202 NE Graham St., Portland, 01000937

Union County

La Grande Commercial Historic District, Roughly bounded by UP RR tracts along Jefferson St., Greenwood and Cove Sts., Washington St., & Fourth St., La Grande, 01000933

PENNSYLVANIA

Bucks County

Waldenmark, 1280 & 1300 Wrightstown Rd., Wrightstown Township, 01000924

Chester County

Pottstown Landing Historic District, Roughly bounded by US 422 By-Pass, Whartnaby St. 633 Laurelwood Rd. and Reiff St., North Coventry, 01000927

Philadelphia County

Harris Building, 2121-41 Market St., Philadelphia, 01000928

Wayne County

Starlight Station, New York, Ontario, and Western Railway, O & W Rd. NE of Depot Hill Rd, Starlight, Buckingham Township, 01000925

York County

Springdale Historic District, Bounded by S. George St., Lombardy Alley, S. Queen St., and Rathon Rd., York, 01000926

TENNESSEE

Montgomery County:

First Presbyterian Church Manse, 305 Main St., Clarksville, 01000929

WYOMING

Weston County

Weston County Courthouse, 1 West Main, Newcastle, 01000930

[FR Doc. 01-24630 Filed 10-1-01; 8:45 am]

BILLING CODE 4310-70-P